DEPARTMENT OF HEALTH AND HUMAN SERVICES

Administration for Community Living

Agency Information Collection Activities; Submission for OMB Review; Public Comment Request; of the Performance Data for State Grants for Assistive Technology Program Annual Progress Report (OMB Control Number 0985-0042)

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the proposed extension to Performance Data for State Grants for Assistive Technology Program Annual Progress Report (OMB Control Number 0985-0042).

DATES: Comments on the collection of information must be submitted electronically by 11:59 p.m. (EST) or postmarked by March 29, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Robert Groenendaal, Robert.Groenendaal@acl.hhs.gov, (202) 795-7356.

SUPPLEMENTARY INFORMATION: In compliance with the Paperwork Reduction Act (44 U.S.C. 3506), the Administration for Community Living (ACL) has submitted the following proposed collection of information to OMB for review and clearance. Section 4 of the 21st Century Assistive Technology Act (29 U.S.C. 3003) authorizes grants to public agencies in the 50 states and the District of Columbia, Puerto Rico, the Virgin Islands, Guam, American Samoa, and the Commonwealth of the Northern Marianas (states and territories). With these funds, states and territories operate “Statewide AT Programs” that conduct activities to increase access to and acquisition of assistive technology (AT) for individuals with disabilities and older Americans. Divided into two comprehensive activity categories: “State-level Activities” and “State Leadership Activities” a condition of receiving a grant to support their Statewide AT Programs, the states and territories must provide to ACL an application and annual progress reports on their activities.

Applications: The application required of states and territories is a three-year State Plan for Assistive Technology (State Plan for AT or State Plan) (OMB No. 0985-0048). The content of the State Plan for AT is based on the requirements in section 4(d) of the 21st Century Assistive Technology Act (29 U.S.C. 3003(d)).

Annual Reports: In addition to submitting a State Plan, every three years, states and territories are required to submit annual progress reports on their activities. The data required in that progress report is specified in section 4(f) of the 21st Century Assistive Technology Act (29 U.S.C. 3003(f)).

National aggregation of data related to measurable goals is necessary for the Government Performance and Results Modernization Act (31 U.S.C. 1115) as well as an Annual Report to Congress. Therefore, this data collection instrument provides a way for all 56 grantees—50 U.S. states, DC, Puerto Rico, the U.S. Virgin Islands, Guam, American Samoa, and the Commonwealth of the Northern Mariana Islands to collect and report data on their performance in a consistent manner, including a uniform survey to be given to consumers. This uniform survey is included as part of the data collection package.

Section 8(d) of the 21st Century Assistive Technology Act (29 U.S.C. 3006(d)) requires that ACL submit to Congress an annual report on the activities conducted under the Act and an analysis of the progress of the states and outlying areas in meeting their measurable goals. This report must include a compilation and summary of the data collected under section 4(f) (29 U.S.C. 3003(f)). In order to make this possible, states and territories must provide their data uniformly. This data collection instrument was developed to ensure that all 56 states and territories report data in a consistent manner in alignment with the requirements of section 4(f) (29 U.S.C. 3003(f)).

ACL will use the information collected via this instrument to:

(1) Complete the annual report to Congress required by the 21st Century Assistive Technology Act;

(2) Comply with reporting requirements under the Government Performance and Results Modernization Act; and

(3) Assess the progress of states and territories regarding measurable goals.

Data collected from the grantees will provide a national description of activities funded under the AT Act to increase the access to and acquisition of AT devices and services through statewide AT programs for individuals with disabilities and older adults. Data collected from grantees will also provide information for usage by Congress, the Department, and the public.

In addition, ACL will use this data to inform program management, monitoring, and technical assistance efforts. States and territories will be able to use the data for internal management and program improvement.

Comments in Response to the 60-Day Federal Register Notice

A 60-day Federal Register Notice published in the Federal Register on December 28, 2023, at 88 FR 89699 with a comment period that closes on February 26, 2024. This information collection expires on February 29, 2024, the Paperwork Reduction Act (44 U.S.C. 3506), requires publication of a 30-day Federal Register Notice and submittal to the Office of Information and Regulatory Affairs, OMB prior to expiration. To remain compliant, ACL has published this notice listing the public comments received as of the date signed to this notice.

The date of submittal to the Federal Register occurred four days prior to publication of this notice. At the time of submission of this notice to the Federal Register, ACL received three public comments. To view any additional public comments and ACL response to comments received through the comment period that closed on February 26, 2024, please view the information collection request at www.reginfo.gov/public/do/PRAMain. Find the information collection by selecting “Currently under 30-day Review—Open for Public Comments” or by using the search function.

Public Comment Summary

Proposed overall updates to the Assistive Technology (AT) Annual Progress Report (APR) information collection (IC) instrument and instruction manual to align with the reauthorization of the Assistive Technology Act.

Comment Summary for Comments received as of February 21, 2024: Three State AT Act Program grantees commented in support of the proposed updates to the AT APR IC as reasonable changes to align with the 21st Century Assistive Technology Act.

ACL Response: ACL Acknowledged receipt of comment.

Comments:

(1) Nevada Assistive Technology Collaborative: Regarding the AT APR, just wanted to let you know that I support the proposed changes and appreciate ACL making reasonable changes to align with the new AT Act. I believe the changes are appropriate and appreciate that they do not significantly increase data collection and reporting burden.

(2) The Illinois Assistive Technology Program (IATP) supports the proposed changes to the Annual Progress Report. We greatly appreciate the fact that there are no additional data collection elements that would be burdensome to IATP and negatively impact our ability to provide quality direct services to customers. If you have any questions, please reach out to me.

(3) Michigan Assistive Technology Program: These guidelines make sense and will not be a burden to us. Thank you for all of your work on this—we look forward to sharing the activities Michigan is completing to increase access to AT for people with disabilities in Michigan.

Estimated Program Burden: ACL estimates the burden of this collection of information as follows:

As stated above, this information collection has 3 pieces:

(A) A web-based system that collects data from states and territories. Fifty-six grantees report to ACL using the web-based data collection system. A workgroup of grantees estimated that the average amount of time required to complete all responses to the data collection instrument is 80 hours annually. The estimated response burden includes time to review the instructions, gather existing data, and complete and review the data entries. These estimates are based on the experience of staff who implement these programs at the state level. In addition, we project that clean-up and clarification of data elements will require no change in data burden estimates.

(B) A performance measurement survey that states and territories collect from individuals. The fifty-six grantees ask consumers to complete surveys that provide information on their performance related to the state's measurable goals. Historical data from states and territories indicates that the average state will ask for this information from 3,242 consumers at 1 minute per consumer to complete the question survey, for a total of 54 hours annually.

(C) A customer satisfaction survey that states and territories collect from individuals. The fifty-six grantees also ask consumers to complete customer satisfaction surveys. Historical data from states indicated that the average state asks for this information from 3,242 consumers at 1 minute per consumer, for a total of 54 annual burden hours.

Respondent/data collection activity | Number of respondents | Responses per respondent | Hours per response | Annual burden hours
Work-Based System | 56 | 1 | 80 | 4,480
Performance Management | 56 | 1 | 54 | 3,024
Customer Satisfaction | 56 | 1 | 54 | 3,024
Program Support | 56 | 1 | 208 | 11,648
Record Keeping Burden | 56 | 1 | 8 | 448
Total |  |  | 404 | 22,624

Dated: February 23, 2024.
Alison Barkoff,
Principal Deputy Administrator for the Administration for Community Living, performing the delegable duties of the Administrator and the Assistant Secretary for Aging.

[FR Doc. 2024-04134 Filed 2-27-24; 8:45 am]

BILLING CODE 4154-01-P